DEPARTMENT OF AGRICULTURE

Agricultural Marketing Service

[Doc. No. AMS-LS-13-0008]

Federal Seed Act Program; Request for Extension and Revision of a Currently Approved Information Collection

AGENCY: Agricultural Marketing Service, USDA.

ACTION: Request for comments.

SUMMARY: In accordance with the Paperwork Reduction Act of 1995 (44 U.S.C. Chapter 35), this document announces the Agricultural Marketing Service's (AMS) intention to request approval, from the Office of Management and Budget (OMB), for an extension of and revision to the currently approved information collection 7 CFR part 201 for Federal Seed Act Labeling and Enforcement.

DATES: Comments on this document must be received by June 24, 2013 to be assured of consideration.

ADDRESSES: Interested persons are invited to submit written comments concerning this information collection document. Comments should be submitted online at www.regulations.gov or sent to Fawad S. Shah, Director, Seed Regulatory and Testing Division (SRTD), Livestock, Poultry, and Seed Program, AMS, USDA, 801 Summit Crossing Place, Suite C, Gastonia, North Carolina 28054-2193, or by facsimile to (704) 852-4109. All comments should reference the docket number (AMS-LS-13-0008), the date, and the page number of this issue of the Federal Register. All comments received will be posted without change, including any personal information provided, online at http://www.regulations.gov and will be made available for public inspection at the above physical address during regular business hours.

SUPPLEMENTARY INFORMATION:

Title: Federal Seed Act Program.

OMB Number: 0581-0026.

Expiration Date of Approval: October 31, 2013.

Type of Request: Extension and revision of currently approved information collection.

Abstract: This information collection and recordkeeping requirements are necessary to conduct the Federal Seed Act (FSA) (7 U.S.C. 1551 et seq.) program with respect to certain testing, labeling, and recordkeeping requirements of agricultural and vegetable seeds in interstate commerce. Regulations under the FSA are contained in 7 CFR part 201.

The FSA, Title II, is a truth-in-labeling law that regulates agricultural and vegetable planting seed in interstate commerce. Seed subject to the FSA must be labeled with certain quality information and it requires that information to be truthful. The FSA prohibits the interstate shipment of falsely advertised seed and seed containing noxious-weed seeds that are prohibited from sale in the State into which the seed is being shipped.

No unique forms are required for this information collection. The FSA requires seed in interstate commerce to be tested and labeled. Once in a State, seed must comply with the testing and labeling requirements of the State seed law. The same testing and labeling required by the FSA nearly always satisfies the State's testing and labeling requirements. Also the receiving, sales, cleaning, testing, and labeling records required by the FSA, are records that the shipper would normally keep in good business practice.

The information in this collection is the minimum information necessary to effectively carry out the enforcement of the FSA. With the exception of the requirements for entering a new variety into a State seed certification program (set forth separately below), the information collection is entirely recordkeeping rather than reporting.

Seed Testing, Labeling, and Recordkeeping

Estimate of Burden: Public reporting burden for this collection of information is estimated to average 2.69 hours per record keeper.

Respondents: Interstate shippers and labelers of seed.

Estimated Number of Respondents: 3,032.

Estimated Total Annual Responses: 9,854.

Estimated Number of Responses per Respondent: 3.25.

Estimated Total Annual Burden on Respondents: 26,507.26 hours.

Eligibility Requirements for Certification of New Varieties and Recordkeeping

Estimate of Burden: Public reporting burden for this collection of information (eligibility for certification of new varieties) is estimated to average 2.42 hours per response.

Respondents: Entities seeking to enter new varieties into State seed certification programs.

Estimated Number of Respondents: 54.

Estimated Total Annual Responses: 486.

Estimated Number of Responses per Respondent: 9.

Estimated Total Annual Burden on Respondents: 1,176.12 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: April 17, 2013.
David R. Shipman,
Administrator.

[FR Doc. 2013-09473 Filed 4-22-13; 8:45 am]

BILLING CODE 3410-02-P